OFFICE OF NAVAJO AND HOPI INDIAN RELOCATION

Performance Review Board Membership

AGENCY: Office of Navajo and Hopi Indian Relocation.

ACTION: Notice.

SUMMARY: Notice is hereby given of the appointments of members to a performance review board for the Office of Navajo and Hopi Indian Relocation.

FOR FURTHER INFORMATION CONTACT: Christopher J. Bavasi, Executive Director, Office of Navajo and Hopi Indian Relocation, 201 E. Birch Ave., Room 11, Flagstaff, AZ 86001, Telephone (928) 779-2721.

SUPPLEMENTARY INFORMATION: Section 4314(c) of Title 5, U.S.C., requires each agency to establish, in accordance with regulations, one or more Senior Executive Service (SES) performance review boards. The function of the boards is to review and evaluate the initial appraisal of senior executives' performance and make recommendations to the appointing authority relative to the performance of these executives. Because of its small size, the Office of Navajo and Hopi Indian Relocation has appointed SES appointees from other Federal agencies to serve on its performance review board. The members of the performance review board for the Office of Navajo and Hopi Indian Relocation are: John Farrell, Executive Director, U.S. Arctic Research Commission; Ernest Garcia, Deputy Director, Selective Service System; Candace Katz, Deputy Director, National Endowment for the Humanities.

Dated: November 12, 2008.
Christopher J. Bavasi,
Executive Director, Office of Navajo and Hopi Indian Relocation.

[FR Doc. E8-27667 Filed 11-21-08; 8:45 am]

BILLING CODE 7560-01-M